DEPARTMENT OF HEALTH AND HUMAN SERVICES

National Institutes of Health

Notice of Establishment

Pursuant to the Federal Advisory Committee Act, as amended (5 U.S.C. Appendix 2), the Director, National Institutes of Health (NIH), announces the establishment of the Emerging Neuroscience and Training Integrated Review Group.

The Emerging Neuroscience and Training Integrated Review Group shall provide advice and recommendations to the Director, NIH, and the Director, Center for Scientific Review (CSR), on the scientific and technical merit of applications for grants-in-aid for research, research training or research-related grants and cooperative agreements, or contact proposals relating to (1) the crosscutting technologies that serve all of the neurosciences, including neuroinformatics and imaging and molecular neurogenetics; (2) crosscutting emerging science in the small business area for all of the neurosciences; and (3) the training areas for all of the neurosciences.

Duration of this committee is continuing unless formally determined by the Director, NIH, that termination would be in the best public interest.

Dated: November 1, 2007.
Elias A. Zerhouni,
Director, National Institutes of Health.

[FR Doc. 07-5744 Filed 11-16-07; 8:45 am]

BILLING CODE 4140-01-M